FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 29, 2019.

A. Federal Reserve Bank of Chicago (Colette A. Fried, Assistant Vice President) 230 South LaSalle Street, Chicago, Illinois 60690-1414:

1. Julia L. Koellner, Fort Madison, Iowa, individually, and acting in concert with Kathleen K. Bentler, Le Claire, Iowa; the Paula M. Friedman Declaration of Trust-II with Paula M. Friedman as trustee, both of Dubuque, Iowa; the Terrance J. Friedman Declaration of Trust-II with Terrance J. Friedman as trustee, both of Dubuque, Iowa; the Revocable Trust Agreement of Agnes L. Koellner, with Agnes L. Koellner as trustee, both of Fort Madison, Iowa; the Revocable Trust Agreement of Steven M. Koellner, with Steven M. Koellner as trustee, both of Fort Madison, Iowa; Kevin P. Koellner, Bettendorf, Iowa; Nicole M. Koellner, Bettendorf, Iowa; the J. Patrick Koellner Irrevocable Trust Agreement, Burlington, Iowa, with Kevin P. Koellner as voting proxy; Kimberly E. Mendez, Fort Madison, Iowa; and Christine A. Smith, Le Claire, Iowa; to retain voting shares of Lee Capital Corp, and thereby retain shares of Lee County Bank, both of Fort Madison, Iowa.

Board of Governors of the Federal Reserve System, August 9, 2019.
Yao-Chin Chao,
Assistant Secretary of the Board.

[FR Doc. 2019-17447 Filed 8-13-19; 8:45 am]

BILLING CODE P